DEPARTMENT OF AGRICULTURE

Forest Service

Assessment Report of Ecological/Social/Economic Sustainability, Conditions, and Trends for the Carson National Forest

AGENCY: Forest Service, USDA.

ACTION: Notice of initiating the assessment phase of the forest plan revision for the Carson National Forest.

SUMMARY: The Carson National Forest, located in northern New Mexico, is initiating the forest plan revision process pursuant to the 2012 National Forest System Land Management Planning Rule (36 CFR Part 219). This process results in a revised forest land management plan (forest plan), which describes the strategic direction for management of forest resources on the Carson National Forest over the next ten to fifteen years. The first phase of the process, the assessment phase, is just beginning. The public is invited to contribute information that can be used in the development of the assessment (36 CFR § 219.6). To gather relevant information about conditions and trends in and around the Carson National Forest, the Forest Service will be hosting a series of public forums in late spring/early summer of 2014. Information about public engagement opportunities during the assessment phase and the entire plan revision process will be posted on the Carson National Forest's Web site, which will be continuously updated as the planning process progresses.

DATES: A draft of the assessment report for the revision of the Carson National Forest's forest plan is anticipated to be posted on the following Web site at www.fs.usda.gov/goto/carsonforestplan in the fall/early winter 2014. The final assessment is projected to be completed in late winter 2014/2015.

Public forums and meetings associated with the development of the assessment will be announced on the Web site cited above.

It is expected the notice of intent to initiate the forest plan revision for the Carson National Forest will be published in the Federal Register in spring 2015.

ADDRESSES: Written comments or questions concerning this notice should be addressed to Carson National Forest, Attn: Plan Revision, 208 Cruz Alta Road, Taos, New Mexico, 87571. Comments may also be sent via email to carsonplan@fs.fed.us.

FOR FURTHER INFORMATION CONTACT: Kevin Naranjo, Forest Planner, 575-758-6221. Individuals who use telecommunication devices for the deaf (TDD) may call the Federal Information Relay Service (FIRS) at 1-800-877-8339 between 8:00 a.m. and 8:00 p.m., Eastern Standard Time, Monday through Friday.

More information on the planning process can also be found on the Carson National Forest Web site at www.fs.usda.gov/goto/carsonforestplan.

SUPPLEMENTARY INFORMATION: The National Forest Management Act (NFMA) of 1976 requires every National Forest System (NFS) unit to develop a forest plan. On April 9, 2012, the Forest Service finalized its land management planning rule (2012 Planning Rule), which describes requirements for the planning process and the content of forest plans. Forest plans describe the strategic direction for managing forest resources over ten to fifteen years, and are adaptive and amendable as conditions change over time.

Under the 2012 Planning Rule, the assessment of ecological, social, and economic trends and conditions is the first phase of the planning framework or process. The second phase is guided, in part, by the National Environment Policy Act (NEPA). It includes the preparation of a draft environmental impact statement and revised forest plan for public review and comment, followed by a final environmental impact statement and revised forest plan. The third phase of the process is monitoring and feedback, which is ongoing over the life of the revised forest plan.

This notice announces the start of the first phase of the planning process, which is an assessment to rapidly evaluate existing information about relevant ecological, economic, cultural, and social conditions, trends, and sustainability and their relationship to the Carson National Forest's current forest plan, within the context of the broader landscape.

With this notice, the agency invites other governments, non-governmental parties, and the public to contribute to the development of the assessment. The intent of public participation in the assessment phase is to gather as much relevant information as possible to inform the plan revision process. Public involvement during this point in the process can also provide opportunities for people to share their concerns about existing conditions and trends and perceptions of risks to social, economic, and ecological systems related to the forest.

As public meetings, forums, and other opportunities for public engagement are scheduled, public notifications will be made and posted on the forest's Web site at www.fs.usda.gov/goto/carsonforestplan and information will be sent out to the forest's mailing list. If anyone is interested in being on the forest's mailing list to receive these notifications, please contact Kevin Naranjo, Forest Planner, at the mailing address identified above, by sending an email to carsonplan@fs.fed.us, or by telephone 575-758-6221.

Responsible Official

The responsible official for revision of the Carson National Forest's land management plan is Forest Supervisor Juan (Buck) Sanchez, Carson National Forest, 208 Cruz Alta Road, Taos, New Mexico, 87571.

Dated: February 21, 2014.
Juan E. (Buck) Sanchez,
Forest Supervisor.

[FR Doc. 2014-04270 Filed 2-26-14; 8:45 am]

BILLING CODE 3410-11-P